DEPARTMENT OF EDUCATION

[Docket No.: ED-2022-SCC-0010]

Agency Information Collection Activities; Submission to the Office of Management and Budget for Review and Approval; Comment Request; Application Forms and Instructions for the Fulbright-Hays Seminars Abroad Program

AGENCY: Office of Postsecondary Education (OPE), Department of Education (ED).

ACTION: Notice.

SUMMARY: In accordance with the Paperwork Reduction Act of 1995, ED is proposing a revision of a currently approved collection.

DATES: Interested persons are invited to submit comments on or before March 7, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Matthew Robinson, 202-453-6024.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application Forms and Instructions for the Fulbright-Hays Seminars Abroad Program.

OMB Control Number: 1840-0501.

Type of Review: A revision of a currently approved collection.

Respondents/Affected Public: Individuals and Households.

Total Estimated Number of Annual Responses: 300.

Total Estimated Number of Annual Burden Hours: 900.

Abstract: The Department of Education (US/ED) is responsible for administering the Fulbright-Hays Seminars Abroad (SA) Program under authority of Section 102(b)(6) of the Mutual Educational and Cultural Exchange (Fulbright-Hays) Act of 1961, as amended. The program is administered under the policies established by the J. William Fulbright Foreign Scholarship Board (FSB), a 12-member body appointed by the President. US/ED recruits and recommends candidates for seminar positions abroad in accordance with FSB policies, which support the purposes of the Fulbright-Hays Act. The application is necessary in order for the Department to award funds under this program.

This is a revision of a currently approved collection. The suggested changes from the currently approved application are minor, and consist of mainly updated language to reflect improvements in clarity and minor updates to instructions. The burden of the applicants is an average of three hours for each applicant and includes the time needed to obtain references. There is no change in burden per response.

This collection is being submitted under the Streamlined Clearance Process for Discretionary Grant Information Collections (1894-0001). Therefore, the 30-day public comment period notice will be the only public comment notice published for this information collection request.

Dated: January 31, 2022.
Kate Mullan,
PRA Coordinator, Strategic Collections and Clearance Governance and Strategy Division, Office of Chief Data Officer Office of Planning, Evaluation and Policy Development.

[FR Doc. 2022-02189 Filed 2-2-22; 8:45 am]

BILLING CODE 4000-01-P